NUCLEAR REGULATORY COMMISSION

[NUREG-1852]

Demonstrating the Feasibility and Reliability of Operator Manual Actions in Response to Fire, Draft Report for Comment

AGENCY: Nuclear Regulatory Commission.

ACTION: Extension of comment period for NUREG-1852, “Demonstrating the Feasibility and Reliability of Operator Manual Actions in Response to Fire, Draft Report for Comment.”

SUMMARY: On October 12, 2006 (71 FR 60200), the Nuclear Regulatory Commission (NRC) issued for public comment NUREG 1852, “Demonstrating the Feasibility and Reliability of Operator Manual Actions in Response to Fire, Draft Report for Comment.” Due to an error in the previous notice of comment period extension, a request has been made to extend the public comment period to allow the public 60 days to review the document. Currently, the Federal Register specifies that the public comment period ends on December 12, 2006.

DATES: The comment period has been extended and now expires on January 30, 2007. Comments received after this date will be considered if it is practical to do so, but the Commission is able to ensure consideration only for comments received before this date.

ADDRESSES: Members of the public are invited and encouraged to submit written comments to Michael Lesar, Chief, Rules and Directives Branch, Office of Administration, Mail Stop T6-D59, U.S. Nuclear Regulatory Commission, Washington, DC 20555-0001. Hand-deliver comments attention to Michael Lesar, 11545 Rockville Pike, Rockville, MD, between 7:30 a.m. and 4:15 p.m. on Federal workdays. Comments may also be sent electronically to NRCREP@nrc.gov.

This document, NUREG-1852, is available at the Agencywide Documents Access and Management System (ADAMS) Public Electronic Reading Room on the Internet at the NRC Web site at http://www.nrc.gov/reading-rm/adams.html under Accession No. ML062350292; on the NRC Web site at http://www.nrc.gov/reading-rm/doc-collections/nuregs/docs4comment.html; and at the NRC Public Document Room, 11555 Rockville Pike, Rockville, MD. The PDR's mailing address is USNRC PDR, Washington, DC 20555; telephone (301) 415-4737 or (800) 397-4205; fax (301) 415-3548; e-mail PDR@NRC.GOV.

FOR FURTHER INFORMATION CONTACT: Erasmia Lois, Human Factors and Reliability Branch, Office of Nuclear Regulatory Research, telephone: (301) 415-6560; e-mail: exl1@nrc.gov.

Dated at Rockville, Maryland, this 15th day of November, 2006.
For the Nuclear Regulatory Commission.
Jose Ibarra,
Chief, Human Factors and Reliability Branch, Probabilistic Risk and Applications, Division of Risk Assessment and Special Projects, Office of Nuclear Regulatory Research.

[FR Doc. E6-19626 Filed 11-20-06; 8:45 am]

BILLING CODE 7590-01-P